DEPARTMENT OF JUSTICE

Notice of Lodging of Consent Decree Under the Clean Water Act

Notice is hereby given that on September 26, 2011, a proposed Consent Decree in United States v. Newport Sand & Gravel Company, Inc., and Carroll Concrete Company, Inc., Civil Action No. 2:11-cv-228, was lodged with the United States District Court for the District of Vermont.

In this action, the United States seeks civil penalties and injunctive relief against Newport Sand & Gravel Company, Inc., and Carroll Concrete Company, Inc. (“Defendants”) for violations of the Clean Water Act. These violations include unauthorized discharges of storm and process water at three concrete ready-mix plants in Vermont, one concrete ready-mix plant in New Hampshire, and one pre-cast concrete block plant in New Hampshire. The Consent Decree requires the Defendants to, among other things, pay a $200,000 penalty and implement employee training, facilities inspections, and other practices to prevent unauthorized storm water discharges.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Newport Sand & Gravel Company, Inc., and Carroll Concrete Company, Inc., Civil Action No. 2:11-cv-228, D.J. Ref. 90-5-1-1-09769.

During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $13.50 (25 cents per page reproduction costs of Consent Decree and Appendices) payable to the U.S. Treasury or, if by email or fax, forward a check in that amount to the Consent Decree Library at the stated address.

Maureen M. Katz,
Assistant Chief, Environmental Enforcement Section, Environment and Natural Resources Division.

[FR Doc. 2011-25637 Filed 10-4-11; 8:45 am]

BILLING CODE 4410-15-P